DEPARTMENT OF HEALTH AND HUMAN SERVICES

National Institutes of Health

Center for Scientific Review; Amended Notice of Meeting

Notice is hereby given of a change in the meeting of the Center for Scientific Review Special Emphasis Panel, December 28, 2010, 8 a.m. to December 29, 2010, 5 p.m., National Institutes of Health, 6701 Rockledge Drive, Bethesda, MD 20892 which was published in the Federal Register on November 29, 2010, 75 FR 73114-73115.

The meeting will be held January 6, 2011 to January 7, 2011. The meeting time and location remain the same. The meeting is closed to the public.

Dated: December 2, 2010.
Jennifer S. Spaeth,
Director, Office of Federal Advisory Committee Policy.

[FR Doc. 2010-30823 Filed 12-7-10; 8:45 am]

BILLING CODE 4140-01-P